NUCLEAR REGULATORY COMMISSION

[Docket Nos. 50-250 and 50-251; NRC-2015-0011]

Florida Power & Light Company; Turkey Point Nuclear Generating Units 3 and 4

AGENCY: Nuclear Regulatory Commission.

ACTION: 10 CFR 2.206 request; receipt.

SUMMARY: The U.S. Nuclear Regulatory Commission (NRC) is giving notice that by petition dated July 18, 2014, as supplemented, Mr. Thomas Saporito (the petitioner) requested that the NRC take enforcement action with regard to Florida Power & Light Company (FPL or the licensee). The petitioner's requests are included in the SUPPLEMENTARY INFORMATION section of this document.

ADDRESSES: Please refer to Docket ID NRC-2015-0011 when contacting the NRC about the availability of information regarding this document. You may obtain publicly available information related to this document using any of the following methods:

• Federal Rulemaking Web site: Go to http://www.regulations.gov and search for Docket ID NRC-2015-0011. Address questions about NRC dockets to Carol Gallagher; telephone: 301-287-3422; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email at pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: By petition dated July 18, 2014 (ADAMS Accession No. ML14202A520), as supplemented by email (ADAMS Accession No. ML14202A521) and the petitioner's address to the Petition Review Board on September 3, 2014 (ADAMS Accession No. ML14266A123), the petitioner requested that the NRC take enforcement action against FPL due to increased ultimate heat sink (UHS) temperatures at Turkey Point Nuclear Generating Units 3 and 4 (Turkey Point). The petition states concern with the impact of the higher UHS temperatures on the environment and the licensee's capability to mitigate accidents at the higher temperatures.

The petitioner requested that the NRC take escalated enforcement action against FPL, specifically to issue FPL a violation and civil penalty, and to issue FPL a confirmatory order to maintain Turkey Point in a cold shutdown condition until FPL completes independent assessments of the UHS temperature increase and its impacts on safety-related equipment. As the basis for this request, the petitioner stated that operation of Turkey Point at a UHS temperature greater than 100 degrees Fahrenheit will significantly jeopardize public health and safety and the environment.

The request is being treated pursuant to Section 2.206 of Title 10 of the Code of Federal Regulations (10 CFR). The NRC reviewed the petition, its supplements, and the transcripts from the meeting on September 3, 2014, and referred the request to the Director of the Office of Nuclear Reactor Regulation. The Director determined that the petitioner's request that the NRC take enforcement action until the licensee completes an independent root cause assessment for the rise in UHS temperature met the criteria for review under the 10 CFR 2.206 process. The Director determined that the other requests in the petition did not meet the criteria for review under the 10 CFR 2.206 process because they concern issues that have already been the subject of NRC staff review and evaluation and have been resolved. The NRC will take appropriate action on this petition within a reasonable time.

Dated at Rockville, Maryland, this 30th day of January, 2015.
For the Nuclear Regulatory Commission.
Jennifer L. Uhle,
Deputy Director for Reactor Safety Programs, Office of Nuclear Reactor Regulation.

[FR Doc. 2015-02608 Filed 2-6-15; 8:45 am]

BILLING CODE 7590-01-P